DEPARTMENT OF COMMERCE

National Oceanic and Atmospheric Administration

RIN 0648-XU28

International Whaling Commission; 2010 Intersessional Meetings; Nominations

AGENCY: National Marine Fisheries Service (NMFS), National Oceanic and Atmospheric Administration (NOAA), Commerce.

ACTION: Notice; request for nominations.

SUMMARY: This notice is a call for nominees for the U.S. Delegation to the March 2010 Small Working Group and intersessional meetings of the International Whaling Commission (IWC). The non-federal representative(s) selected as a result of this nomination process is(are) responsible for providing input and recommendations to the U.S. IWC Commissioner representing the positions of non-governmental organizations. Generally, only one non-governmental position is selected for the U.S. Delegation, but as these meetings may be quite technical in nature, an additional representative may be chosen as a technical advisor.

DATES: The IWC is holding its 2010 Small Working Group and intersessional meetings March 2-5, 2010, in St. Pete Beach, FL. All written nominations for the U.S. Delegation to these IWC meetings must be received by February 24, 2010.

ADDRESSES: All nominations for the U.S. Delegation to the IWC annual meeting should be addressed to Monica Medina, Acting U.S. Commissioner to the IWC, and sent via post to: Ryan Wulff, National Marine Fisheries Service, Office of International Affairs, 1315 East-West Highway, SSMC3 Room 12620, Silver Spring, MD 20910.

FOR FURTHER INFORMATION CONTACT: Ryan Wulff, 202-482-3689.

SUPPLEMENTARY INFORMATION: The Secretary of Commerce is charged with the responsibility of discharging the domestic obligations of the United States under the International Convention for the Regulation of Whaling, 1946. The U.S. IWC Commissioner has responsibility for the preparation and negotiation of U.S. positions on international issues concerning whaling and for all matters involving the IWC. He is staffed by the Department of Commerce and assisted by the Department of State, the Department of the Interior, the Marine Mammal Commission, and by other agencies. The non-federal representative(s) selected as a result of this nomination process is(are) responsible for providing input and recommendations to the U.S. IWC Commissioner representing the positions of non-governmental organizations. Generally, only one non-governmental position is selected for the U.S. Delegation. As these meetings may be quite technical in nature, an additional representative may be chosen as a technical adviser. This person should have extensive knowledge of the International Convention for the Regulation of Whaling, experience in working with the U.S. Delegation, and the ability to provide legal advice, as appropriate.

The IWC's 2010 Small Working Group and intersessional meetings will be held March 2-5, 2010, at the Tradewinds Island Resorts in St. Pete Beach, FL. When the agenda is finalized it will be posted on the IWC website at www.iwcoffice.org.

Dated: February 12, 2010.
James W. Balsiger,
Acting Assistant Administrator, National Marine Fisheries Service.

[FR Doc. 2010-3081 Filed 2-12-10; 4:15 pm]

BILLING CODE 3510-22-S